ENVIRONMENTAL PROTECTION AGENCY

40 CFR Part 52

[EPA-R09-OAR-2020-0435; FRL-10017-70-Region 9]

Air Plan Approval; California; Placer County Air Pollution Control District, Antelope Valley Air Quality Management District, Mariposa County Air Pollution Control District, and Eastern Kern Air Pollution Control District

AGENCY: Environmental Protection Agency (EPA).

ACTION: Final rule.

SUMMARY: The Environmental Protection Agency (EPA) is taking final action to approve revisions to the Placer County Air Pollution Control District (PCAPCD), Antelope Valley Air Quality Management District (AVAQMD), Mariposa County Air Pollution Control District (MCAPCD), and Eastern Kern Air Pollution Control District (EKAPCD) portions of the California State Implementation Plan (SIP). These revisions concern negative declarations for the Control Techniques Guidelines (CTG) for the Oil and Natural Gas Industry (Oil and Natural Gas CTG). We are approving the negative declarations into the California SIP.

DATES: This rule will be effective on February 16, 2021.

ADDRESSES: The EPA has established a docket for this action under Docket ID No. EPA-R09-OAR-2020-0435. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Sina Schwenk-Mueller, EPA Region IX, 75 Hawthorne St., San Francisco, CA 94105, by phone: (415) 947-4100 or by email at SchwenkMueller.Sina@epa.gov; or Rebecca Newhouse, EPA Region IX, 75 Hawthorne St., San Francisco, CA 94105, by phone: (415) 972-3004 or by email at newhouse.rebecca@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On October 6, 2020 (85 FR 63064), the EPA proposed to approve the following negative declarations into the CA SIP.

emsp;
Local agency | Document title | Adopted | Submitted
PCAPCD | Negative Declaration for the Control Techniques Guidelines for the Oil and Natural Gas Industry Source Category | 12/12/19 | ¹ 01/23/20
AVAQMD | Federal Negative Declaration for Control Techniques Guidelines (CTG) for the Oil and Natural Gas Industry Source Category | 01/21/20 | ² 05/01/20
MCAPCD | Negative Declaration for the Control Techniques Guidelines for the Oil and Natural Gas Industry Source Category | 03/10/20 | ³ 05/01/20
EKAPCD | Reasonably Available Control Technology (RACT) State Implementation Plan (SIP) for the 2008 Ozone National Ambient Air Quality Standards—Negative Declaration for Oil and Natural Gas CTG.⁴ | 05/11/17 | 08/09/17
¹ This submittal was transmitted to the EPA by a letter from CARB dated January 21, 2020.
² This submittal was transmitted to the EPA by a letter from CARB dated April 30, 2020.
³ This submittal was transmitted to the EPA by a letter from CARB dated April 30, 2020.
⁴ The EPA is only acting on the negative declaration for the Oil and Natural Gas CTG in Table 6—CTG Categories with No Applicable Source (Negative Declarations) of the EKAPCD RACT SIP Submittal. At this time, the EPA is not proposing any action on the remainder of the EKAPCD RACT SIP that was submitted on August 9, 2017. The EPA will propose a separate action on the remainder of the EKAPCD RACT SIP at a future date.

We proposed to approve these negative declarations because we determined that they comply with the relevant CAA requirements. Our proposed action contains more information on the negative declarations and our evaluation.

II. Public Comments and EPA Responses

The EPA's proposed action provided a 30-day public comment period. During this period, we received no comments.

III. EPA Action

No comments were submitted. Therefore, as authorized in section 110(k)(3) of the Act, the EPA is fully approving these revisions into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 3, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 16, 2021. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Volatile organic compounds.

Dated: December 11, 2020.
John Busterud,
Regional Administrator, Region IX.

For the reasons stated in the preamble, the Environmental Protection Agency amends Part 52, chapter I, title 40 of the Code of Federal Regulations as follows:

PART 52—APPROVAL AND PROMULGATION OF IMPLEMENTATION PLANS

1. The authority citation for part 52 continues to read as follows:

Authority: 42 U.S.C. 7401 et seq.

Subpart F—CALIFORNIA

2. Section 52.220 is amended by adding paragraphs (c)(503)(ii), (c)(548), and (c)(549) to read as follows:

§ 52.220 Identification of plan-in part.

* * * * *

(c) * * *

(503) * * *

(ii) Additional materials. (A) Eastern Kern Air Pollution Control District.

(1) Reasonably Available Control Technology (RACT) State Implementation Plan (SIP) for the 2008 Ozone National Ambient Air Quality Standards—Negative Declaration for Oil and Natural Gas CTG only, as adopted on May 11, 2017.

(2) [Reserved]

(B) [Reserved]

* * * * *

(548) Additional materials were submitted on January 23, 2020 by the Governor's designee as an attachment to a letter dated January 21, 2020.

(i) [Reserved]

(ii) Additional materials. (A) Placer County Air Pollution Control District.

(1) Negative Declaration for the Control Techniques Guidelines for the Oil and Natural Gas Industry Source Category as adopted on December 12, 2019.

(2) [Reserved]

(B) [Reserved]

(549) Additional materials were submitted on May 1, 2020 by the Governor's designee as an attachment to a letter dated April 30, 2020.

(i) [Reserved]

(ii) Additional materials. (A) Antelope Valley Air Quality Management District.

(1) Federal Negative Declaration for Control Techniques Guidelines (CTG) for the Oil and Natural Gas Industry Source Category as adopted on January 21, 2020

(2) [Reserved]

(B) Mariposa County Air Pollution Control District.

(1) Negative Declaration for the Control Techniques Guidelines for the Oil and Natural Gas Industry Source Category as adopted on March 10, 2020.

(2) [Reserved]

3. Section 52.222 is amended by adding paragraphs (a)(4)(v), (a)(6)(xii), and (a)(15) and (16) to read as follows:

§ 52.222 Negative declarations.

(a) * * *

(4) * * *

(v) The following negative declaration for the 2008 ozone standard was adopted by the District on December 12, 2019, and submitted to the EPA on January 23, 2020, as an attachment to a letter dated January 21, 2020: The Control Techniques Guidelines for the Oil and Natural Gas Industry (EPA 453/B-16-001).

* * * * *

(6) * * *

(xii) The following negative declaration for the 2008 ozone standard was adopted by the District on January 21, 2020 and submitted to the EPA on May 1, 2020, as an attachment to a letter dated April 30, 2020: The Control Techniques Guidelines for the Oil and Natural Gas Industry (EPA 453/B-16-001).

* * * * *

(15) Mariposa County Air Pollution Control District.

(i) The following negative declaration for the 2008 ozone standard was adopted by the District on March 10, 2020, and submitted to the EPA on May 1, 2020, as an attachment to a letter dated April 30, 2020: The Control Techniques Guidelines for the Oil and Natural Gas Industry (EPA 453/B-16-001).

(ii) [Reserved]

(16) Eastern Kern Air Pollution Control District

(i) The following negative declaration for the 2008 ozone standard was adopted by the District on May 11,2017 and submitted to the EPA on August 9, 2017: The Control Techniques Guidelines for the Oil and Natural Gas Industry (EPA 453/B-16-001).

(ii) [Reserved]

[FR Doc. 2020-28018 Filed 1-14-21; 8:45 am]

BILLING CODE 6560-50-P